ENVIRONMENTAL PROTECTION AGENCY

[ER-FRL-6674-1]

Environmental Impact Statements and Regulations; Availability of EPA Comments

Availability of EPA comments repared pursuant to the Environmental Review Process (ERP), under section 309 of the Clean Air Act and Section 102(2)(c) of the National Environmental Policy Act as amended. Requests for copies of EPA comments can be directed to the Office of Federal Activities at 202-564-7167.

Summary of Rating Definitions

Environmental Impact of the Action

LO—Lack of Objections

The EPA review has not identified any potential environmental impacts requiring substantive changes to the proposal. The review may have disclosed opportunities for application of mitigation measures that could be accomplished with no more than minor changes to the proposal.

EC—Environmental Concerns

The EPA review has identified environmental impacts that should be avoided in order to fully protect the environment. Corrective measures may require changes to the preferred alternative or application of mitigation measures that can reduce the environmental impact. EPA would like to work with the lead agency to reduce these impacts.

EO—Environmental Objections

The EPA review has identified significant environmental impacts that must be avoided in order to provide adequate protection for the environment. Corrective measures may require substantial changes to the preferred alternative or consideration of some other project alternative (including the no action alternative or a new alternative). EPA intends to work with the lead agency to reduce these impacts.

EU—Environmentally Unsatisfactory

The EPA review has identified adverse environmental impacts that are of sufficient magnitude that they are unsatisfactory from the standpoint of public health or welfare or environmental quality. EPA intends to work with the lead agency to reduce these impacts. If the potentially unsatisfactory impacts are not corrected at the final EIS stage, this proposal will be recommended for referral to the CEQ.

Adequacy of the Impact Statement

Category 1—Adequate

EPA believes the draft EIS adequately sets forth the environmental impact(s) of the preferred alternative and those of the alternatives reasonably available to the project or action. No further analysis or data collection is necessary, but the reviewer may suggest the addition of clarifying language or information.

Category 2—Insufficient Information

The draft EIS does not contain sufficient information for EPA to fully assess environmental impacts that should be avoided in order to fully protect the environment, or the EPA reviewer has identified new reasonably available alternatives that are within the spectrum of alternatives analyzed in the draft EIS, which could reduce the environmental impacts of the action. The identified additional information, data, analyses, or discussion should be included in the final EIS.

Category 3—Inadequate

EPA does not believe that the draft EIS adequately assesses potentially significant environmental impacts of the action, or the EPA reviewer has identified new, reasonably available alternatives that are outside of the spectrum of alternatives analyzed in the draft EIS, which should be analyzed in order to reduce the potentially significant environmental impacts. EPA believes that the identified additional information, data, analyses, or discussions are of such a magnitude that they should have full public review at a draft stage. EPA does not believe that the draft EIS is adequate for the purposes of the NEPA and/or Section 309 review, and thus should be formally revised and made available for public comment in a supplemental or revised draft EIS. On the basis of the potential significant impacts involved, this proposal could be a candidate for referral to the CEQ.

Draft EISs

EIS No. 20050530, ERP No. D-FHW-L40229-ID, ID-75 Timmerman to Ketchum—US-20 to Saddle Road, Increase Roadway and Transportation Safety, Cities of Bellevue, Hailey, Ketchum and the City of Sun Valley, Blaine County, ID

Summary: EPA expressed environmental concerns about the aquatic resources, ecological connectivity, habitat permeability for wildlife, and air toxic, and is also concerned about the limited range of alternatives analyzed and the secondary effects of induced travel demand and land use change. Rating EC2.

EIS No. 20050544, ERP No. D-FHW-E40805-KY, Newtown Pike Extension Project, Road Connection from West Main Street to South Limestone Street in Lexington, Fayette County, KY

Summary: EPA expressed environmental concerns about the air quality impacts, noise impacts, and the adequacy of mitigation for environmental justice issues. Rating EC2.

EIS No. 20060011, ERP No. D-BLM-J02050-UT, Chapita Wells-Stagecoach Area Natural Gas Development, Drilling and Production Operations of Natural Gas Wells and Associated Access Road, and Pipelines, Uintah County, UT

Summary: EPA expressed environmental concerns about impacts to riparian areas along the White River and wildlife habitat in specific locations of the project area, and recommended that the final EIS should include analysis and comparison of the full range of alternatives considered. Rating EC2.

EIS No. 20060032, ERP No. D-AFS-L65502-AK, Kuiu Timber Sale Area, Proposes to Harvest Timer and Build Associated Temporary Roads, US. Army COE Section 10 and 404 Permits, North Kuiu Island, Petersburg Ranger District, Tongass National Forest, AK

Summary: EPA expressed environmental concerns about sediment loading to streams from timber harvesting, and recommended Alternative 2 because it would minimize potential adverse impacts to water quality and aquatic habitat. Rating EC1.

EIS No. 20060036, ERP No. D-BLM-L65503-OR, North Steens Ecosystem Restoration Project, To Reduce Juniper-Related Fuels and Restore Various Plant Communities, Implementation, Andrews Resource Area, Cooperative Management and Protection Area (CMPA), Harney County, OR

Summary: EPA expressed environmental concerns about impacts to air quality, water quality and riparian areas, and requested that the above impacts be avoided and/or mitigated. Rating EC2.

EIS No. 20060038, ERP No. D-BLM-J02051-UT, Greater Deadman Bench Oil and Gas Producing Region, Proposes to Develop Oil and Gas Resources, Right-of-Way Grants and Applications for Permit to Drill, Vernal, Uintah County, UT

Summary: EPA expressed environmental concerns about potential impacts to riparian areas and wildlife habitat, and recommended that the final EIS provide a detailed management plan, including mitigation and monitoring for the duration of the proposed action. Rating EC2.

Final EISs

EIS No. 20060039, ERP No. F-FAA-K51042-AZ, Phoenix Sky Harbor International Airport (PHX), Construction and Operation of a Terminal, Airfield and Surface Transportation, City of Phoenix, Maricopa County, AZ

Summary: EPA does not object to the proposed project but continues to recommend additional voluntary mitigation measures for construction-related air emissions.

EIS No. 20060049, ERP No. F-FHW-L40217-AK, South Extension of the Coastal Trail Project, Extending the existing Tony Knowles Coastal Trail from Kincaid Park through the Project Area to the Potter Weigh Station, COE Section 10 and 404 Permits, Municipality of Anchorage, Anchorage, AK

Summary: EPA does not object to the preferred alternative.

Dated: April 4, 2006.
Robert W. Hargrove,
Director, NEPA Compliance Division, Office of Federal Activities.

[FR Doc. E6-5113 Filed 4-6-06; 8:45 am]

BILLING CODE 6560-50-P